FEDERAL COMMUNICATIONS COMMISSION

FCC To Hold Open Commission Meeting Thursday, June 18, 2015

June 11, 2015.

The Federal Communications Commission will hold an Open Meeting on the subjects listed below on Thursday, June 18, 2015. The meeting is scheduled to commence at 10:30 a.m. in Room TW-C305, at 445 12th Street SW., Washington, DC.

Item No. | Bureau | Subject
1 | WIRELINE COMPETITION | TITLE: Numbering Policies for Modern Communications (WC Docket No. 13-97); IP-Enabled Services (WC Docket No. 04-36); Telephone Number Requirements for IP-Enabled Services Providers (WC Docket No. 07-243); Telephone Number Portability (CC Docket No. 95-116); Developing a Unified Intercarrier Compensation Regime (CC Docket No. 01-92); Connect America Fund (WC Docket No. 10-90); Numbering Resource Optimization (CC Docket No. 99-200). SUMMARY: The Commission will consider a Report and Order that will facilitate innovative technologies and services by establishing a process to authorize interconnected VoIP providers to obtain telephone numbers directly from the Numbering Administrators, rather than through intermediaries.
2 | WIRELINE COMPETITION | TITLE: Lifeline and Link Up Reform (WC Docket No. 11-42); Telecommunications Carriers Eligible for Universal Service Support, (WC Docket No. 09-197) SUMMARY: The Commission will consider a Second Further Notice of Proposed Rulemaking, Order on Reconsideration, Second Report and Order, and Memorandum Opinion and Order in order to comprehensively restructure and modernize the Lifeline program to efficiently and effectively connect low-income Americans to broadband, strengthen program oversight and administration, and take additional measures to eliminate waste, fraud, and abuse.
3 | CONSUMER & GOVERNMENTAL AFFAIRS | TITLE: Rules and Regulations Implementing the Telephone Consumer Protection Act of 1991 (CG Docket No. 02-278; WC Docket No. 07-135); American Association of Healthcare Administrative Management Petition for Expedited Declaratory Ruling and Exemption; American Bankers Association Petition for Exemption; Coalition of Mobile Engagement Providers Petition for Declaratory Ruling; Consumer Bankers Association Petition for Declaratory Ruling; Direct Marketing Association Petition for Forbearance and Emergency Petition for Special Temporary Relief; Paul D. S. Edwards Petition for Expedited Clarification and Declaratory Ruling; Milton H. Fried, Jr., and Richard Evans Petition for Expedited Declaratory Ruling; Glide Talk, Ltd. Petition for Expedited Declaratory Ruling; Global Tel*Link Corporation Petition for Expedited Clarification and Declaratory Ruling; National Association of Attorneys General Request for Clarification; National Employment Network Association Petition for Expedited Declaratory Ruling; Professional Association for Customer Engagement Petition for Expedited Declaratory Ruling and/or Expedited Rulemaking; Retail Industry Leaders Association Petition for Declaratory Ruling; Revolution Messaging Petition for Expedited Clarification and Declaratory Ruling; RTI International Petition for Expedited Declaratory Ruling; Rubio's Restaurant, Inc. Petition for Expedited Declaratory Ruling; Santander Consumer USA, Inc. Petition for Expedited Declaratory Ruling; Stage Stores, Inc. Petition for Expedited Declaratory Ruling; TextMe, Inc. Petition for Expedited Declaratory Ruling and Clarification; United Healthcare Services, Inc. Petition for Expedited Declaratory Ruling; YouMail, Inc. Petition for Expedited Declaratory Ruling; 3G Collect, Inc., and 3G Collect LLC Petition for Expedited Declaratory Ruling; ACA International Petition for Rulemaking. SUMMARY: The Commission will consider a Declaratory Ruling and Order reaffirming the Telephone Consumer Protection Act's protections against unwanted robocalls, encouraging pro-consumer uses of robocall technology, and responding to a number of requests for clarity from businesses and other parties.
4 | INCENTIVE AUCTION TASK FORCE | TITLE: Expanding the Economic and Innovation Opportunities of Spectrum Through Incentive Auctions (GN Docket No. 12-268). SUMMARY: The Commission will consider a Second Order on Reconsideration that resolves petitions for reconsideration of the Commission's Order adopting rules to implement the Broadcast Television Spectrum Incentive Auction, providing parties with additional certainty ahead of the auction.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2015-15253 Filed 6-19-15; 8:45 am]

BILLING CODE 6712-01-P